DEPARTMENT OF THE INTERIOR

National Park Service

National Register of Historic Places; Notification of Pending Nominations

Nominations for the following properties being considered for listing in the National Register were received by the National Park Service before February 7, 2004. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by March 17, 2004.

Carol D. Shull,
Keeper of the National Register of Historic Places.

ALASKA

Fairbanks North Star Borough—Census Area

F.E. Company Gold Dredge No. K, Upper Dome Creek, Fairbanks, 04000186.

MASSACHUSETTS

Middlesex County

Wheeler—Minot Farmhouse, 341 Virginia Rd., Concord, 04000190.

Plymouth County

Whitman Park, Park, Maple, Whitman, Hayden Ave., Whitman, 04000187.

Suffolk County

Nix's Mate Daybeacon, Nubble Channel, The Narrows, Boston Harbor, Boston, 04000189.

Worcester County

East Princeton Village Historic District, Roughly Main St., Leominster Rd., Princeton, 04000188.

PENNSYLVANIA

Berks County

Pine Forge Mansion and Industrial Site, (Iron and Steel Resources of Pennsylvania MPS), Pine Forge Rd. and Douglass Dr., Pine Forge, Douglas Township, 04000191.

Erie County

Park Dinor, 4019 Main St., Erie, Lawrence Park Township, 04000192.

Philadelphia County

Steppacher, Walter M. and Brother Shirt Factory, 146-150 N. 13th St., Philadephia, 04000193.

York County

Dill's Tavern, 227 N. Baltimore St., Dillsburg, 04000195.

RHODE ISLAND

Providence County

Angell—Ballou House, 49 Ridge Rd., Smithfield, 04000196.

Louttit Laundry, 93 Cranston St., Providence, 04000197.

Phillips Insulated Wire Company Complex, 413 Central Ave., Pawtucket, 04000194.

TENNESSEE

Knox County

Airplane Service Station, 6829 Clinton Hwy., Knoxville, 04000198.

WASHINGTON

Spokane County

Davenport Hotel, 807 W. Sprague Ave., Spokane, 04000201.

Moore—Turner Garden, 507 W. Seventh Ave., Spokane, 04000199.

Whitman County

Cordova Theater, (Movie Theaters in Washington State MPS), 135 N. Grand Ave., Pullman, 04000200.

A request for REMOVAL has been made for the following resource:

IOWA

Johnson County

Shambaugh, Benjamin F. And Bertha M. Horack, House, 219 N. Clinton St., Iowa City, 96000895.

[FR Doc. 04-4523 Filed 3-1-04; 8:45 am]

BILLING CODE 4312-51-P